DEPARTMENT OF TRANSPORTATION

National Highway Traffic Safety Administration

[Docket No. NHTSA-2018-0025]

Drugged Driving Call to Action Meeting

AGENCY: National Highway Traffic Safety Administration (NHTSA), U.S. Department of Transportation (DOT).

ACTION: Notice of public meeting.

SUMMARY: NHTSA is announcing a public meeting as part of the Agency's initiative to combat drug-impaired driving on U.S. roads. NHTSA is holding this public meeting to facilitate a national dialogue on best practices, lessons learned, and to develop a call-to-action with short-, mid-, and long-term plans to address drug-impaired driving in the U.S. NHTSA is bringing together key stakeholders—including safety partners; state and local officials; data and policy experts; law enforcement and criminal justice professionals; toxicologists; drug recognition experts; and others—to join the DOT in setting a course of action and taking measurable steps to address drug-impaired driving. Registration information for this event will be available at www.nhtsa.gov on March 1, 2018. Attendance at the meeting is limited because of space limitations of the DOT Conference Center; however, the meeting will be available for live public viewing on the NHTSA website (www.nhtsa.gov).

DATES: The meeting will be held on March 15, 2018, in Washington, DC. The meeting will start at 9:00 a.m. and continue until 4:00 p.m., EST. Check-in (through security) will begin at 8:30 a.m. Attendees should arrive early enough to enable them to go through security by no later than 8:50 a.m. to allow sufficient time to enter the building.

ADDRESSES: The meeting will be held in the Atrium of the West Building of the U.S. Department of Transportation, located at 1200 New Jersey Avenue SE, Washington, DC 20590 (Green Line Metro Station at Navy Yard). This facility is accessible to individuals with disabilities. The meeting will also be webcast live, and a link to the actual webcast will be available on www.NHTSA.gov. NHTSA is committed to providing equal access to this event for all participants. Accessibility requests should be submitted to Caroline Cash at Caroline.Cash@dot.gov or 202-366-9712 by close of business on March 2, 2018.

FOR FURTHER INFORMATION CONTACT: Caroline Cash at caroline.cash@dot.gov or 202-366-9712.

SUPPLEMENTARY INFORMATION: Driving under the influence of drugs (DUID) is against the law in all 50 States. Early data and anecdotal reports indicate that drug-impaired driving is on the rise, potentially responsible for thousands of driving-related fatalities. As a result, NHTSA and its partners are prioritizing the elimination of drug-impaired driving to ensure U.S. roads, communities, and families are safe. The event is open to the public. The invited speakers include representatives with backgrounds in traffic and highway safety, public health, and representatives from diverse organizations including state government, and other Federal Agencies. Written statements may be submitted to the public docket.

NHTSA will use this meeting to launch a call to action to develop plans to combat the growing problem of drug impaired driving. Saving lives by preventing traffic deaths is NHTSA's top priority. Please go to the NHTSA website (www.NHTSA.gov) on March 1st for an updated agenda.

Should it be necessary to cancel the meeting due to inclement weather or other emergency, NHTSA will take all available measures to notify registered participants.

NHTSA will conduct the meeting informally. Thus, technical rules of evidence will not apply. The meeting will consist of presentations and panels. Each panel will have two or three short presentations, a discussion among the panel members, and questions from the other participants to be discussed by the meeting participants.

Authority: 49 U.S.C. 30182.

Heidi R. King,
Deputy Administrator.

[FR Doc. 2018-04158 Filed 2-28-18; 8:45 am]

BILLING CODE 4910-59-P